DEPARTMENT OF ENERGY

Federal Energy Regulatory Commission

[Docket Nos. EC03-5-000 and ER03-65-000]

Allegheny Energy Supply Company, LLC; Allegheny Trading Finance Company; Notice of Filing

October 24, 2002.

Take notice that, in Docket No. EC03-5-000, on October 21, 2002, Allegheny Energy Supply Company, LLC (“AE Supply”), and Allegheny Trading Finance Company (“ATF”) filed with the Federal Energy Regulatory Commission an application pursuant to Section 203 of the Federal Power Act for authorization to assign two contracts between AE Supply and the California Department of Water Resources from AE Supply to ATF. The Applicants have requested Commission action on an expedited basis.

Also take notice that, in Docket No. ER03-65-000, on October 21, 2002, ATF filed proposed Market Rate Tariff, and a request for such waivers and blanket authorizations as have been granted in previous orders. ATF requests an effective date of October 22, 2002.

Any person desiring to intervene or to protest these filings should file with the Federal Energy Regulatory Commission, 888 First Street, NE, Washington, DC 20426, in accordance with rules 211 and 214 of the Commission's rules of practice and procedure (18 CFR 385.211 and 385.214). Protests will be considered by the Commission in determining the appropriate action to be taken, but will not serve to make protestants parties to the proceeding.

Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Comment Date: November 4, 2002.

Issued October 24, 2002.
By direction of the Commission. Commissioner Massey dissenting with a separate statement attached.
Magalie R. Salas,
Secretary.

MASSEY, Commissioner, dissenting:

I am concerned that a substantial shortening of our normal 21-day intervention period for this type of filing may not allow potential intervenors sufficient time to review the application and to comment appropriately. Therefore, I dissent.

William L. Massey,
Commissioner.

[FR Doc. 02-27927 Filed 11-1-02; 8:45 am]

BILLING CODE 6717-01-P